DEPARTMENT OF AGRICULTURE

Forest Service

Notice of New Fees; Federal Lands Recreation Enhancement Act (Title VIII, Pub. L. 108-447)

AGENCY: Chugach National Forest, USDA Forest Service.

ACTION: Notice of new fees.

SUMMARY: The Chugach National Forest will begin charging fees for a group campsite, cabins, individual campsites, and a backcountry permit for the Whistle Stop project area. Fees for other group campsites, cabins, and individual campsites on the Chugach National Forest have shown that the public values the availability of these facilities. In addition, market research conducted for the Whistle Stop project shows that people understand the need for backcountry permits given the remote nature of the area. Fees will be commensurate with the benefits and services provided. Funds received from the fees will be used for the continued operation and maintenance of the facilities and enhanced services of the area.

DATES: Backcountry Permits will be available spring 2007 for the 2007 Whistle Stop season. The group campsite, individual campsites, and cabins are expected to be available in 2008.

ADDRESSES: Forest Supervisor, Chugach National Forest, 3301 C Street, Anchorage, AK 9503.

FOR FURTHER INFORMATION CONTACT: Adam McClory, Whistle Stop Project Manager, 907-754-2352.

SUPPLEMENTARY INFORMATION: The Federal Recreation Lands Enhancement Act (Title VII, Public Law 108-447) directed the Secretary of Agriculture to publish a six month advance notice in the Federal Register whenever new recreation fee areas are established.

The Whistle Stop project is a partnership between the Forest Service and Alaska Railroad that will provide additional recreation opportunities using alternative transportation. This new service will allow the opportunity for visitors to access National Forest lands which were previously inaccessible to the majority of forest visitors. Market research demonstrates a demand for these sorts of recreation opportunities on the Kenai Peninsula. The Forest Service has identified a goal of achieving cost recovery through a combination of revenue sharing with the Alaska Railroad; fees from public-use cabin rentals and campsites; and fees obtained through backcountry permits.

Implementation of backcountry permits, as described in the Record of Decision, will provide the Forest Service with the ability to accurately track recreation use and ensure that use levels and numbers of encounters are not exceeding thresholds established in the Forest Plan and Recreation Opportunity Spectrum (ROS) guidelines. Chugach National Forest goals include maintaining a backcountry social experience and protecting the natural and cultural resources throughout the area. Backcountry permits will be required for visitors utilizing the enhanced amenities provided through the Whistle Stop Project area. Amenities include a developed trail system, backcountry campsites, interpretive materials, and Whistle Stop stations that will include a shelter, restroom facilities and bear-proof food storage containers. Issuance of the backcountry permit will allow for better public safety and result in improved visitor education and information about proper camping techniques, fir prevention, safety in bear country, and sanitation. Members of the public are welcome to comment.

Dated: October 4, 2006.
Joe Meade,
Chugach National Forest Supervisor.

[FR Doc. 06-8591 Filed 10-10-06; 8:45 am]

BILLING CODE 3410-11-M